NATIONAL AERONAUTICS AND SPACE ADMINISTRATION

[Notice (01-126)]

NASA Advisory Council, Biological and Physical Research Committee, Microgravity Research Advisory Subcommittee; Meeting

AGENCY: National Aeronautics and Space Administration.

ACTION: Notice of Meeting.

SUMMARY: In accordance with the Federal Advisory Committee Act, Pub. L. 92-463, as amended, the National Aeronautics and Space Administration announces a meeting of the NASA Advisory Council, Biological and Physical Research Committee, Physical Sciences Advisory Subcommittee.

DATES: Wednesday, October 24 , from 8:00 a.m. to 5:00 p.m.

ADDRESSES: American Management Association, 440 First Street, NW, Washington, DC 20001.

FOR FURTHER INFORMATION CONTACT: Dr. Bradley Carpenter, Code UG, National Aeronautics and Space Administration, Washington, DC 20546,202-358-0826.

SUPPLEMENTARY INFORMATION: The meeting will be open to the public up to the seating capacity of the room. The agenda for the meeting is as follows:

—Introduction

—Program Issues and Status

—Office of Biological and Physical Research Outlook

—International Space Station Research Status

—Discipline Working Group Activities Report

—Bio-prefixed Activities in the PSD

—Plans for New Initiatives

—Working Group Changes

—Status of MRAS Recommendations

—Discussion & Summary

—Executive Session/Writing Assignments

It is imperative that the meeting be held on this date to accommodate the scheduling priorities of the key participants. Visitors will be requested to sign a visitor's register.

Beth M. McCormick,
Advisory Committee Management Officer,National Aeronautics and Space Administration.

[FR Doc. 01-26053 Filed 10-16-01; 8:45 am]

BILLING CODE 7510-01-P